DEPARTMENT OF ENERGY

Federal Energy Regulatory Commission

[Docket Nos. RP04-77-001 and RP00-445-007]

Alliance Pipeline L.P.; Notice of Compliance Filing

January 21, 2004.

Take notice that on January 15, 2004, Alliance Pipeline L.P. (Alliance) tendered for filing, as part of its FERC Gas Tariff, Original Volume No. 1, the tariff sheets listed below, proposed to be effective January 1, 2004:

Docket No. RP04-77-000

Substitute First Revised Sheet No. 300

Docket No. RP00-445-006

Substitute Third Revised Sheet No. 11

Substitute Third Revised Sheet No. 12

Substitute Third Revised Sheet No. 13

Substitute Third Revised Sheet No. 14

Alliance states that the listed tariff sheets are being filed in compliance with the letter order issued in referenced dockets on December 31, 2003 (105 FERC ¶ 61,400 (2003)). Alliance states that the revised tariff sheets revise Section 2 of Alliance's pro forma Firm Transportation Agreement such that contract extension rights for each contract can be specified by filling in blank spaces limited to the term of the contract extension and the prior notice of the extension; and revising the negotiated rate contract summaries in Alliance's FERC Gas Tariff to reflect the contract term for each agreement.

Alliance states that copies of its filing have been mailed to all customers, state commissions, and other interested parties.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-126 Filed 1-27-04; 8:45 am]

BILLING CODE 6717-01-P